DEPARTMENT OF HEALTH AND HUMAN SERVICES

Health Care Financing Administration

[Document Identifier: HCFA-250 through HCFA-254]

Notice of Emergency Clearance and Public Meeting: Public Information Collection Requirements Submitted to the Office of Management and Budget (OMB)

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collections referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR, Part 1320. A disruption in this collection activity may cause public harm. This is due to the potential and unnecessary loss to the Medicare Trust Fund as the result of the non-identification of health insurance coverage that is primary to Medicare. Collection of this information allows HCFA to identify those Medicare beneficiaries who have other group health insurance that would pay before Medicare, resulting in savings to the Medicare Trust Fund. The annual savings from the Medicare Secondary Payer (MSP) program are more than $3 billion per year.

Emergency Clearance

HCFA is requesting OMB review and approval of this collection by November 24, 2000, with a 180-day approval period. Written comments and recommendations will be accepted from the public if received by the individuals designated below by November 23, 2000. During this 180-day period, we will publish a separate Federal Register notice announcing the initiation of an extensive 60-day agency review and public comment period on these requirements. We will submit the requirements for OMB review and an extension of this emergency approval.

Type of Information Request: Revision of a currently approved collection; Title of Information Collection: Medicare Secondary Payer Information Collection and Supporting Regulations in 42 CFR 411.25, 489.2, and 489.20; Form Number: HCFA-250 through HCFA-254 (OMB approval #: 0938-0214); Use: Medicare Secondary Payer (MSP) refers to those situations where Medicare does not have primary responsibility for paying the medical expenses of a Medicare beneficiary. Medicare intermediaries and carriers must collect information to perform various tasks to detect MSP cases, develop and disseminate tools to enable them to better perform their tasks, and monitor their performance in achievement of their assigned MSP functions. These information collection requirements describe the MSP requirements and consist of the following:

1. Initial enrollment questionnaire

2. MSP claims investigation, which consists of first claim development, trauma code development, self-reporting MSP liability development, notice to responsible third party development (411.25 notice), secondary claims development, and “08” development (involving claims where information cannot be obtained from the beneficiary)

3. Provider MSP development, which requires the provider to request information from the beneficiary or representative during admission and other encounters; Frequency: On occasion; Affected Public: Individuals or households, Business or other for-profit, and Not-for-profit institutions; Number of Respondents: 14,204,000; Total Annual Responses: 116,394,528; Total Annual Hours Requested: 3,305,814.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326.

Public Meeting

HCFA will be holding a public meeting to permit interested parties an opportunity to give their views on how the content and use of the MSP collection requirements may need to be revised. Representatives of the hospital industry, health care consumer advocacy groups, and provider groups who wish to participate in the public meeting are asked to notify the Agency in advance of their interest in attending. At this meeting, the Health Care Financing Administration will solicit comments on the topics listed in the first paragraph of this notice and as referenced in the supporting statement, which may be obtained as described above.

The public meeting will be held on Friday, November 3, 2000, from 1:00-4:00 p.m., in the Multipurpose Room (Capacity: 100 persons) of the Health Care Financing Administration, 7500 Security Boulevard, Baltimore, Maryland 21244. Interested parties should provide notification of their planned attendance to Tom Bouchat or Joan Fowler, either via telephone (410) 786-4621 or (410) 786-0922, fax (410) 786-9963, or e-mail: Tbouchat@hcfa.gov or Jfowler@hcfa.gov by no later than 3 p.m., Monday, October 30, 2000.

Interested persons are invited to send comments regarding the burden or any other aspect of these collections of information requirements. However, as noted above, comments on these information collection requirements must be mailed and/or faxed to the designees referenced below by November 23, 2000:

Health Care Financing Administration, Office of Information Services, Division of HCFA Enterprise Standards, Room N2-14-26, 7500 Security Boulevard, Baltimore, MD 21244-1850, Fax Number: (410) 786-0262, Attn: Julie Brown HCFA-250 through HCFA-254 and,

Office of Information and Regulatory Affairs, Office of Management and Budget, Room 10235, New Executive Office Building, Washington, DC 20503, Fax Number: (202) 395-6974 or (202) 395-5167, Attn: Wendy Taylor, HCFA Desk Officer.

Dated: October 17, 2000.
John P. Burke, III,
HCFA Reports Clearance Officer, HCFA, Office of Information Services, Information Technology Investment Management Group, Division of HCFA Enterprise Standards.

[FR Doc. 00-27028 Filed 10-17-00; 3:06 pm]

BILLING CODE 4120-03-P